DEPARTMENT OF LABOR

Employment and Training Administration

[TA-W-38,018]

Durango Apparel Manufacturing, Inc., (Formerly Henry I. Siegel Co., Inc.) New York, NY; Notice of Termination of Investigation

Pursuant to Section 221 of the Trade Act of 1974, an investigation was initiated on August 28, 2000 in response to a worker petition which was filed on behalf of workers at Durango Apparel Manufacturing, Inc., (formerly, Henry I. Siegel Co., Inc.) New York, New York.

An active certification covering the petitioning group of workers is already in effect (TA-W-37,697A, as amended). Consequently, further investigation in this case would serve no purpose, and the investigation has been terminated.

Signed in Washington, DC, this 31st day of August, 2000.
Edward A. Tomchick,
Director, Division of Trade Adjustment Assistance.

[FR Doc. 00-23930 Filed 9-15-00; 8:45 am]

BILLING CODE 4510-30-M